DEPARTMENT OF ENERGY

Federal Energy Regulatory Commission

[Docket No. RM15-11-000]

Reliability Standard for Transmission System Planned Performance for Geomagnetic Disturbance Events; Supplemental Notice of Agenda and Discussion Topics for Staff Technical Conference

This notice establishes the agenda and topics for discussion at the technical conference to be held on March 1, 2016, to discuss issues related to the proposed Reliability Standard for Transmission System Planned Performance for Geomagnetic Disturbance Events.¹ The technical conference will start at 9:00 a.m. and end at approximately 5:00 p.m. (Eastern Time) in the Commission Meeting Room at the Commission's Headquarters, 888 First Street NE., Washington, DC. The technical conference will be led by Commission staff. Commissioners may attend and participate. All interested parties are invited to attend, and registration is not required.

¹ On April 30, 2012, Commission staff held a technical conference to discuss “issues related to the reliability of the Bulk-Power System as affected by geomagnetic disturbances,” and “the risks and impacts from geomagnetically induced currents to transformers and other equipment on the Bulk-Power System, as well as options for addressing or mitigating the risks and impacts.”

http://www.ferc.gov/eventcalendar/Files/20120420162925-AD12-13-000a.pdf.

The topics and related questions to be discussed during this conference are provided as an attachment to this Notice. The purpose of the technical conference is to facilitate a structured dialogue on issues identified by the Commission in the Notice of Proposed Rulemaking (NOPR) in this proceeding and raised in public comments to the NOPR. Prepared remarks will be presented by invited panelists.

This event will be webcast and transcribed. The free webcast allows listening only. Anyone with internet access who desires to listen to this event can do so by navigating to the “FERC Calendar” at www.ferc.gov, and locating the technical conference in the Calendar of Events. Opening the technical conference in the Calendar of Events will reveal a link to its webcast. The Capitol Connection provides technical support for the webcast and offers the option of listening to the meeting via phone-bridge for a fee. If you have any questions, visit www.CapitolConnection.org or call 703-993-3100. The webcast will be available on the Calendar of Events at www.ferc.gov for three months after the conference. Transcripts of the conference will be available for a fee from Ace-Federal Reporters, Inc. (202-347-3700).

FERC conferences are accessible under section 508 of the Rehabilitation Act of 1973. For accessibility accommodations, please send an email to accessibility@ferc.gov or call toll free (866) 208-3372 (voice) or (202) 502-8659 (TTY), or send a fax to (202) 208-2106 with the requested accommodations.

There is no fee for attendance. However, members of the public are encouraged to preregister online at: https://www.ferc.gov/whats-new/registration/03-01-16-form.asp.

For more information about the technical conference, please contact: Sarah McKinley, Office of External Affairs, 202-502-8368, sarah.mckinley@ferc.gov.

Dated: February 4, 2016.
Nathaniel J. Davis, Sr.,
Deputy Secretary.

[FR Doc. 2016-02636 Filed 2-9-16; 8:45 am]

BILLING CODE 6717-01-P